COMMISSION OF FINE ARTS

2006 National Capital Arts and Cultural Affairs Program

Notice is hereby given that Public Law 99-190, as amended, authorizing the National Capital Arts and Cultural Affairs Program, has been funded for 2006 in the amount of $7,215,490.00. All requests for information and applications for grants should be received by 31 December 2005 and addressed to: Frederick J. Lindstrom, Assistant Secretary/NCACA Program Administrator, Commission of Fine Arts, National Building Museum, Suite 312, 401 F Street, NW., Washington, DC 20001-2728. Phone: 202-504-2200.

Deadline for receipt of grant applications is 1 March 2006.

This program provides grants for general operating support of organizations whose primary purpose is performing, exhibiting, and/or presenting the arts. To be eligible for a grant, organizations must be located in the District of Columbia, must be non-profit, non-academic institutions of demonstrated national repute, and must have annual incomes, exclusive of federal funds, in excess of one million dollars for each of the past three years. Organizations seeking grants must provide a Dun and Bradstreet (D&S) Data Universal Numbering System (DUNNS) number when applying.

Frederick J. Lindstrom,
Assistant Secretary and NCACA Program Administrator.

[FR Doc. 05-21603 Filed 10-28-05; 8:45 am]

BILLING CODE 6330-01-M